OFFICE OF THE UNITED STATES TRADE REPRESENTATIVE

[Docket No. USTR-2019-0003]

Initiation of Investigation; Notice of Hearing and Request for Public Comments: Enforcement of U.S. WTO Rights in Large Civil Aircraft Dispute

AGENCY: Office of the United States Trade Representative.

ACTION: Notice of initiation of investigation, hearing, and request for comments.

SUMMARY: The United States Trade Representative (Trade Representative) is initiating an investigation to enforce U.S. rights in the World Trade Organization (WTO) dispute against the European Union (EU) and certain EU member States addressed to EU subsidies on large civil aircraft. The Trade Representative proposes determinations that the EU and certain member States have denied U.S. rights under the WTO Agreement and have failed to implement WTO Dispute Settlement Body recommendations. The Trade Representative proposes to take action in the form of additional duties on products of the EU or certain member States, to be drawn from the preliminary list annexed to this Notice. The interagency Section 301 Committee is seeking public comments and will hold a public hearing in connection with the proposed determinations.

DATES: To be assured of consideration, the following schedule applies:

May 6, 2019: Due date for submission of requests to appear at the public hearing and summary of testimony.

May 15, 2019: The Section 301 Committee will convene a public hearing in the Main Hearing Room of the U.S. International Trade Commission, 500 E Street SW, Washington, DC 20436 beginning at 9:30 a.m.

May 28, 2019: Due date for submission of written comments, including post-hearing rebuttal comments.

ADDRESSES: You should submit written comments through the Federal eRulemaking Portal: http://www.regulations.gov. Follow the instructions for submitting comments in sections E and F below. The docket number is USTR-2019-0003. For issues with on-line submissions, please contact the Office of the United States Trade Representative (USTR) Section 301 line at (202) 395-5725.

FOR FURTHER INFORMATION CONTACT: For questions about this investigation or proposed determinations, contact Megan Grimball, Assistant General Counsel, at (202) 395-5725. For questions on customs classification of products identified in the Annex to this Notice, contact Traderemedy@cbp.dhs.gov.

SUPPLEMENTARY INFORMATION

A. Dispute Settlement Proceedings

On October 6, 2004, the United States requested WTO dispute settlement consultations with the European Communities (now the EU), France, Germany, Spain, and the United Kingdom (certain member States) concerning certain subsidies granted by the EU and certain member States to the EU large civil aircraft domestic industry, on the basis that the subsidies appeared to be inconsistent with their obligations under the General Agreement on Tariffs and Trade 1994 (GATT 1994) and the Agreement on Subsidies and Countervailing Measures (SCM Agreement).

Further information on this dispute—EC and Certain member States—Measures Affecting Trade in Large Civil Aircraft (DS316), including the original panel and appellate reports and the compliance panel and appellate reports adopted by the DSB, is publicly available on the WTO website, including at the following page: https://www.wto.org/english/tratop_e/dispu_e/cases_e/ds316_e.htm.

On May 31, 2005, the United States requested the establishment of a dispute settlement panel. USTR provided notice of the establishment of the panel and invited comments from the public concerning the issues raised in the dispute. See 70 FR 35496.

In May 2011, a WTO panel report, as amended by an Appellate Body report, confirmed that EU and certain member State subsidies on the manufacture of large civil aircraft breached the EU's obligations under the SCM Agreement. The Dispute Settlement Body (DSB) adopted the reports on June 1, 2011, and recommended that the EU and certain member States bring the WTO-inconsistent measures into compliance with WTO rules. The EU and certain member States had until December 1, 2011, to bring the measures into compliance.

On December 1, 2011, the EU asserted that it had implemented the DSB recommendations. The United States did not agree, and requested authorization from the DSB to impose countermeasures commensurate with the adverse effects of the WTO-inconsistent measures. The EU referred the matter to arbitration to assess the proper level of any countermeasures.

In early 2012, the United States and the EU entered into a procedural agreement pursuant to which the arbitration would be suspended until after WTO compliance panel and any appellate proceedings determined whether the EU had implemented the DSB recommendations. On May 28, 2018, the DSB adopted compliance panel and Appellate Body reports confirming that launch aid to the Airbus A380 and A350 XWB aircraft continued to cause WTO-inconsistent adverse effects to U.S. interests.

At the request of the United States, and in accordance with the procedural agreement, on July 13, 2018, the WTO Arbitrator resumed its work in determining the level of countermeasures to be authorized as a result of the WTO inconsistencies. USTR anticipates that the WTO Arbitrator will issue its report regarding the level of countermeasures in the summer of 2019.

B. Initiation of Investigation

Section 302(b) of the Trade Act of 1974, as amended, authorizes the Trade Representative to initiate an investigation to determine whether conduct is actionable under section 301 of the Trade Act. Actionable conduct under section 301(a) includes, inter alia, the denial of rights of the United States under any trade agreement.

In order to enforce U.S. WTO rights in connection with the Large Civil Aircraft dispute, the Trade Representative is initiating a section 301 investigation of the subsidies provided by the EU and certain member States on the manufacture of large civil aircraft. Prior to initiation, USTR consulted with the interagency Section 301 Committee and the appropriate advisory committee.

Section 303 of the Trade Act calls for the Trade Representative to request consultations with the foreign country subject to the investigation. USTR requested consultations with the EU and certain member States upon the initiation of the dispute settlement proceedings in October 2004. USTR again requested consultations with the EU and certain member States in April 2012, upon initiation of the WTO compliance proceeding. Neither set of consultations resolved the dispute. USTR remains open to discussing these matters with the EU and certain member States.

C. Proposed Determinations

The Trade Representative proposes to determine, in accordance with the outcome of the WTO dispute settlement proceedings, that the EU and certain member States have breached their WTO obligations by providing subsidies on the manufacture of large civil aircraft and by failing to withdraw the subsidies or remove their adverse effects. In particular, under section 301(a), section 304(a)(1)(A), and section 306(b)(2), the Trade Representative proposes to determine that the EU and certain member States have denied U.S. rights under the WTO Agreement, and in particular, under Articles 5 and 6.3 of the SCM Agreement, and have failed to comply with the DSB recommendations to bring the WTO-inconsistent subsidies into compliance with WTO obligations.

Upon determining that U.S. rights under a trade agreement are being denied, section 301(a) provides that the Trade Representative shall take all appropriate and feasible action authorized under section 301(c), subject to the specific direction, if any, of the President regarding such action, and all other appropriate and feasible action within the power of the President that the President may direct the Trade Representative to take to enforce such rights. Pursuant to sections 301(a), 301(c), 304(a)(1)(B), and 306(b)(2), the Trade Representative proposes that appropriate action would include the imposition of additional ad valorem duties of up to 100 percent on products of the EU or certain member States, to be drawn from the preliminary list of HTS numbers in the attached Annex. In accordance with section 306(b)(2) of the Trade Act, the Annex includes reciprocal goods of the affected industry. The final list of products subject to increased duties will take into account the report of the Arbitrator on the appropriate level of countermeasures to be authorized by the WTO.

The Annex to this Notice contains a list of 317 tariff subheadings and 9 Harmonized Tariff Schedule statistical reporting numbers being considered for additional duties. The value of the list is approximately $21 billion in terms of the estimated import trade value for calendar year 2018. The products listed in Section 1 of the Annex are being considered for additional duties if they are the product of Germany, France, the United Kingdom, or Spain. The products listed in Section 2 of the Annex are being considered for additional duties if they are the product of any of the 28 member States of the EU.

D. Request for Public Comments

In accordance with sections 304(b) and 306(c), USTR invites comments from interested persons with respect to the proposed determination and proposed action. USTR invites comments with respect to any aspect of the proposed action, including:

• The specific products to be subject to increased duties, including whether products listed in the Annex should be retained or removed, or whether products not currently on the list should be added.

• The level of the increase, if any, in the rate of duty.

• The appropriate aggregate level of trade to be covered by additional duties.

• Whether increased duties on particular products might have an adverse effect upon U.S. stakeholders, including small businesses and consumers.

E. Hearing Participation

The Section 301 Committee will convene a public hearing in the main hearing room of the U.S. International Trade Commission, 500 E Street SW, Washington, DC 20436 beginning at 9:30 a.m. on May 15, 2019. You must submit requests to appear at the hearing by May 6, 2019. The request to appear must include a summary of testimony, and may be accompanied by the full script of testimony you expect to give. Remarks at the hearing may be no longer than five minutes to allow time for questions from the Section 301 Committee.

All submissions must be in English and sent electronically via www.regulations.gov. To submit a request to appear at the hearing via www.regulations.gov, enter docket number USTR-2019-0003. In the “type comment” field, include the name, address, email address, and telephone number of the person presenting the testimony. Attach testimony, and a pre-hearing submission if provided, by using the “upload file” field. USTR strongly prefers submissions in Adobe Acrobat (.pdf). The file name should include the name of the person who will be presenting the testimony. In addition, please submit a request to appear by email to 301aircraft@ustr.eop.gov. In the subject line of the email, please include the name of the person who will be presenting the testimony, followed by “Request to Appear”. Please also include the name, address, email address, and telephone number of the person who will be presenting testimony in the body of the email message.

F. Procedures for Written Submissions

All submissions must be in English and sent electronically via www.regulations.gov. To submit comments via www.regulations.gov, enter docket number USTR-2019-0003 on the home page and click “search.” The site will provide a search results page listing all documents associated with this docket. Find a reference to this Notice and click on the link entitled “comment now!” For further information on using the www.regulations.gov website, please consult the resources provided on the website by clicking on “how to use regulations.gov” on the bottom of the home page. We will not accept hand-delivered submissions.

The www.regulations.gov website allows users to submit comments by filling in a “type comment” field or by attaching a document using an “upload file” field. USTR prefers that you submit comments in an attached document. If you attach a document, it is sufficient to type “see attached” in the “type comment” field. USTR strongly prefers submissions in Adobe Acrobat (.pdf). If you use an application other than Adobe Acrobat (or Word (.doc)), please indicate the name of the application in the “type comment” field.

File names should reflect the name of the person or entity submitting the comments. Please do not attach separate cover letters to electronic submissions; rather, include any information that might appear in a cover letter in the comments themselves. Similarly, to the extent possible, please include any exhibits, annexes, or other attachments in the same file as the comment itself, rather than submitting them as separate files.

For any comments submitted electronically containing business confidential information, the file name of the business confidential version should begin with the characters “BC”. Any page containing business confidential information must be clearly marked “BUSINESS CONFIDENTIAL” on the top of that page and the submission should clearly indicate, via brackets, highlighting, or other means, the specific information that is business confidential. If you request business confidential treatment, you must certify in writing that disclosure of the information would endanger trade secrets or profitability, and that the information would not customarily be released to the public. Filers of submissions containing business confidential information also must submit a public version of their comments. The file name of the public version should begin with the character “P”. The “BC” and “P” should be followed by the name of the person or entity submitting the comments or rebuttal comments. If these procedures are not sufficient to protect business confidential information or otherwise protect business interests, please contact the USTR Section 301 line at (202) 395-5725 to discuss whether alternative arrangements are possible.

USTR will post submissions in the docket for public inspection, except business confidential information. You can view submissions on the https://www.regulations.gov website by entering docket number USTR-2019-0003 in the search field on the home page.

Stephen Vaughn,
General Counsel, Office of the U.S. Trade Representative.

Annex

Section 1—The products that are enumerated and described in Section 1 of this Annex are being considered for additional import duties if they are the product of any of the following four member States of the European Union: France, Germany, Spain or the United Kingdom.

Note: In general, products that are described in the 10-digit statistical reporting numbers of the Harmonized Tariff Schedule of the United States (HTS) that are listed in Section 1 of this Annex are covered by the proposed action. For purposes of statistical reporting numbers 8802.11.0030, 8802.11.0045, 8802.12.0040, 8802.40.0040, 8802.40.0060, and 8802.40.0070, the product descriptions that are contained in Section 1 of this Annex are provided for informational purposes only, and are not intended to delimit in any way the scope of the proposed action. However, for purposes of statistical reporting numbers 8803.20.0030, 8803.30.0030 and 8803.90.9030, the product descriptions define and limit the scope of the proposed action. Any questions regarding the scope of a particular HTS statistical reporting number should be referred to U.S. Customs and Border Protection. In the product descriptions, the abbreviation “nesoi” means “not elsewhere specified or included”.

HTS statistical reporting No. | Product description
8802.11.0030 | New helicopters, non-military, of an unladen weight not exceeding 998 kg.
8802.11.0045 | New helicopters, non-military, of an unladen weight exceeding 998 kg but not exceeding 2000 kg.
8802.12.0040 | New helicopters, non-military, of an unladen weight exceeding 2,000 kg.
8802.40.0040 | New aircraft, passenger transports, non-military, of an unladen weight exceeding 15,000 kg.
8802.40.0060 | New aircraft, cargo transports, non-military, of an unladen weight exceeding 15,000 kg.
8802.40.0070 | New aircraft, non-military, nesoi (including passenger/cargo combinations), of an unladen weight exceeding 15,000 kg.
8803.20.0030 * | Undercarriages and parts thereof for use in new civil aircraft, not for use by the Department of Defense or the U.S. Coast Guard, of an unladen weight exceeding 15,000 kg provided for in statistical reporting numbers 8802.40.0040, 8802.40.0060 and 8802.40.0070.
8803.30.0030 * | Fuselages and fuselage sections, predominantly aluminum wings and wing assemblies, and horizontal and vertical stabilizers for use in new civil airplanes, not for use by the Department of Defense or the U.S. Coast Guard, of an unladen weight exceeding 15,000 kg provided for in statistical reporting numbers 8802.40.0040, 8802.40.0060 and 8802.40.0070.
8803.90.9030 * | Other parts, nesoi, for use in new civil aircraft, not for use by the Department of Defense or the U.S. Coast Guard, of an unladen weight exceeding 15,000 kg provided for in statistical reporting numbers 8802.40.0040, 8802.40.0060 and 8802.40.0070.
* The products intended to be covered by the proposed action in these statistical reporting numbers are a subsection of the products classified in these statistical reporting numbers.

Section 2—The products that are enumerated and described in Section 2 of this Annex are being considered for additional import duties if they are the product of any of the twenty-eight member States of the European Union.

Note: All products that are classified in the 8-digit subheadings of the HTS that are listed in Section 2 of this Annex are covered by the proposed action. The product descriptions that are contained in Section 2 of this Annex are provided for informational purposes only, and are not intended to delimit in any way the scope of the proposed action. Any questions regarding the scope of a particular HTS subheading should be referred to U.S. Customs and Border Protection. In the product descriptions, the abbreviation “nesoi” means “not elsewhere specified or included”.

HTS subheading | Product description
0303.57.00 | Swordfish steaks, other swordfish, excluding fillets, other meat portions, livers and roes.
0304.41.00 | Salmon fillets, fresh or chilled.
0304.42.00 | Trout, fillets, fresh or chilled.
0304.84.00 | Frozen swordfish fillets.
0306.14.20 | Crabmeat, frozen.
0306.14.40 | Crabs, cooked in shell or uncooked (whether in shell or not), dried, salted or in brine, frozen.
0306.19.00 | Crustaceans, nesoi (including flours, meals and pellets of crustaceans fit for human consumption), cooked in shell or uncooked, etc., frozen.
0403.10.50 | Yogurt, in dry form, whether or not flavored or containing add fruit or cocoa, not subject to gen nte 15 or add. US nte 10 to Ch.4.
0403.10.90 | Yogurt, not in dry form, whether or not flavored or containing add fruit or cocoa.
0405.10.10 | Butter subject to quota pursuant to chapter 4 additional US note 6.
0405.10.20 | Butter not subject to general note 15 and in excess of quota in chapter 4 additional U.S. note 6.
0406.10.28 | Fresh (unripened/uncured) cheddar cheese, cheese/subs for cheese cont or proc from cheddar cheese, not subj to Ch4 US note 18, not GN15.
0406.10.68 | Fresh (unripened/uncured) Swiss/emmentaler cheeses exc eye formation, gruyere-process cheese and cheese cont or proc. from such, not subj.
0406.10.84 | Fresh cheese, and substitutes for cheese, cont. cow's milk, nesoi, o/0.5% by wt. of butterfat, descr in add US note 16 to Ch 4, not GN15.
0406.10.88 | Fresh cheese, and substitutes for cheese, cont. cow's milk, nesoi, o/0.5% by wt. of butterfat, not descr in add US note 16 to Ch 4, not GN 15.
0406.10.95 | Fresh cheese, and substitutes for cheese, not cont. cow's milk, nesoi, o/0.5% by wt. of butterfat.
0406.20.10 | Roquefort cheese, grated or powdered.
0406.20.69 | Cheese containing or processed from american-type cheese (except cheddar), grated or powdered, subject to add US note 19 to Ch. 4.
0406.20.91 | Cheese (including mixtures), nesoi, o/0.5% by wt of butterfat, w/cow's milk, grated or powdered, not subject to add US note 16 to Ch. 4.
0406.30.05 | Stilton cheese, processed, not grated or powdered, subject to add US note 24 to Ch. 4.
0406.30.18 | Blue-veined cheese (except roquefort), processed, not grated or powdered, not subject to gen. note 15 or add. US note 17 to Ch. 4.
0406.30.28 | Cheddar cheese, processed, not grated or powdered, not subject to gen note 15 or in add US note 18 to Ch. 4.
0406.30.34 | Colby cheese, processed, not grated or powdered, subject to add US note 19 to Ch. 4.
0406.30.38 | Colby cheese, processed, not grated or powdered, not subject to gen note 15 or add US note 19 to Ch. 4.
0406.30.48 | Edam and gouda cheese, processed, not grated or powdered, not subject to gen note 15 or add. US note 20 to Ch. 4.
0406.30.53 | Gruyere-process cheese, processed, not grated or powdered, not subject to gen note 15 or add. US note 22 to Ch. 4.
0406.30.69 | Processed cheese cont/procd fr american-type cheese (ex cheddar), not grated/powdered, subject to add US note 19 to Ch. 4, not GN15.
0406.30.89 | Processed cheese (incl. mixtures), nesoi, w/cow's milk, not grated or powdered, subject to add US note 16 to Ch. 4, not GN15.
0406.40.44 | Stilton cheese, nesoi, in original loaves, subject to add. US note 24 to Ch. 4.
0406.40.48 | Stilton cheese, nesoi, not in original loaves, subject to add. US note 24 to Ch. 4.
0406.90.08 | Cheddar cheese, nesoi, subject to add. US note 18 to Ch. 4.
0406.90.12 | Cheddar cheese, nesoi, not subject to gen. note 15 of the HTS or to add. US note 18 to Ch. 4.
0406.90.32 | Goya cheese from cow's milk, not in original loaves, nesoi, not subject to gen. note 15 or to add. US note 21 to Ch. 4.
0406.90.46 | Swiss or Emmentaler cheese with eye formation, nesoi, subject to add. US note 25 to Ch. 4.
0406.90.48 | Swiss or Emmentaler cheese with eye formation, nesoi, not subject to gen. note 15 or to add. US note 25 to Ch. 4.
0406.90.52 | Colby cheese, nesoi, subject to add. US note 19 to Ch. 4 and entered pursuant to its provisions.
0406.90.54 | Colby cheese, nesoi, not subject to gen. note 15 or to add. US note 19 to Ch. 4.
0406.90.56 | Cheeses, nesoi, from sheep's milk in original loaves and suitable for grating.
0406.90.57 | Pecorino cheese, from sheep's milk, in original loaves, not suitable for grating.
0406.90.72 | Cheeses & subst. for cheese (incl. mixt.), nesoi, w/or from blue-veined cheese, subj. to add. US note 17 to Ch.4, not GN15.
0406.90.74 | Cheeses & subst. for cheese (incl. mixt.), nesoi, w/or from blue-veined cheese, not subj. to add. US note 17 to Ch.4, not GN15.
0406.90.78 | Cheeses & subst. for cheese (incl. mixt.), nesoi, w/or from cheddar cheese, not subj. to add. US note 18 to Ch.4, not GN15.
0406.90.82 | Cheeses & subst. for cheese (incl. mixt.), nesoi, w/or from Am. cheese except cheddar, subj. to add. US note 19 to Ch.4, not GN15.
0406.90.86 | Cheeses & subst. for cheese (incl. mixt.), nesoi, w/or from edam or gouda cheese, subj. to add. US note 20 to Ch.4, not GN15.
0406.90.88 | Cheeses & subst. for cheese (incl. mixt.), nesoi, w/or from edam or gouda cheese, not subj. to add. US note 20 to Ch.4, not GN15.
0406.90.90 | Cheeses & subst. for cheese (incl. mixt.), nesoi, w/or from swiss, emmentaler or gruyere, subj. to add. US note 22 to Ch.4, not GN15.
0406.90.92 | Cheeses & subst. for cheese (incl. mixt.), nesoi, w/or from swiss, emmentaler or gruyere, not subj. Ch4 US note 22, not GN15.
0406.90.94 | Cheeses & subst. for cheese (incl. mixt.), nesoi, w/butterfat n/o 0.5% by wt, not subject to add. US note 23 to Ch. 4, not GN15.
0406.90.95 | Cheeses & subst. for cheese (incl. mixt.), nesoi, w/cow's milk, w/butterfat o/0.5% by wt, subject to Ch 4 US note 16 (quota).
0406.90.97 | Cheeses & subst. for cheese (incl. mixt.), nesoi, w/cow's milk, w/butterfat o/0.5% by wt, not subject to Ch4 US note 16, not GN15.
0406.90.99 | Cheeses & subst. for cheese (incl. mixt.), nesoi, w/o cow's milk, w/butterfat o/0.5% by wt, not GN15.
0805.10.00 | Oranges, fresh or dried.
0805.21.00 | Mandarins and other similar citrus hybrids including tangerines, satsumas, clementines, wilkings, fresh or dried.
0805.22.00 | Clementines, fresh or dried, other.
0805.29.00 | Wilkings and similar citrus hybrids, fresh or dried, other.
0805.40.80 | Grapefruit, fresh or dried, if entered during the period November 1 through the following July 31, inclusive.
0805.50.20 | Lemons, fresh or dried.
0805.50.30 | Tahitian lines, Persian limes and other limes of the Citrus latifolia variety, fresh or dried.
0805.50.40 | Limes of the Citrus aurantifolia variety, fresh or dried.
0805.90.01 | Citrus fruit, not elsewhere specified or included, fresh or dried, including kumquats, citrons and bergamots.
1509.10.20 | Virgin olive oil and its fractions, whether or not refined, not chemically modified, weighing with the immediate container under 18 kg.
1509.10.40 | Virgin olive oil and its fractions, whether or not refined, not chemically modified, weighing with the immediate container 18 kg or over.
1509.90.20 | Olive oil, other than virgin olive oil, and its fractions, not chemically modified, weighing with the immediate container under 18 kg.
1509.90.40 | Olive oil, other than virgin olive oil, and its fractions, not chemically modified, weighing with the immediate container 18 kg or over.
1604.11.40 | Prepared or preserved salmon, whole or in pieces, but not minced, other than in oil and in airtight containers.
1604.12.60 | Herrings prepared or preserved, whole or in pieces, but not minced, nesoi.
1605.30.10 | Lobster, prepared or preserved, not containing fish meat, nesoi.
1605.51.05 | Oysters, fish meat or prepared meals.
1605.51.40 | Smoked oysters.
1605.51.50 | Oysters, prepared or preserved, but not smoked.
1605.52.05 | Scallops, including queen scallops as containing fish meat; prepared meals.
1605.52.60 | Scallops, including queen scallops, prepared or preserved.
1605.53.05 | Mussels, containing fish meats or in prepared meals.
1605.53.60 | Mussels, prepared or preserved.
1605.54.05 | Cuttle fish and squid, as containing fish meat; prepared meals.
1605.54.60 | Cuttle fish and squid, prepared or preserved.
1605.55.05 | Octopus, as containing fish meat or prepared meals.
1605.55.60 | Octopus, prepared or preserved.
1605.56.05 | Products of clams, cockles, and arkshells containing fish meat; prepared meals.
1605.56.10 | Razor clams, in airtight containers, prepared or preserved, nesoi.
1605.56.15 | Boiled clams in immediate airtight containers, the contents of which do not exceed 680 g gross weight.
1605.56.20 | Clams, prepared or preserved, excluding boiled clams, in immediate airtight containers, nesoi.
1605.56.30 | Clams, prepared or preserved, other than in airtight containers.
1605.56.60 | Cockles and arkshells, prepared or preserved.
1605.57.05 | Products of abalone containing fish meat; prepared meals of abalone.
1605.57.60 | Abalone, prepared or preserved.
1605.58.05 | Products of snails, other than sea snails, containing fish meat; prepared meals of snails other than sea snails.
1605.58.55 | Prepared or preserved snails, other than sea snails.
1605.59.05 | Products of molluscs nesoi containing fish meat; prepared meals of molluscs nesoi.
1605.59.60 | Molluscs nesoi, prepared or preserved.
1905.31.00 | Sweet biscuits.
2005.70.08 | Olives, green, not pitted, in saline, not ripe, in containers holding o/8 kg for repkg, not subject to add. US note 4 to Ch. 20.
2005.70.16 | Olives, green, in saline, place packed, stuffed, in containers holding n/o 1 kg, aggregate quantity n/o 2700 m ton/yr.
2005.70.23 | Olives, green, in saline, place packed, stuffed, not in containers holding 1 kg or less.
2005.70.25 | Olives, green, in a saline solution, pitted or stuffed, not place packed.
2007.99.15 | Currant and other berry jams, nesoi.
2007.99.20 | Apricot jam.
2007.99.25 | Cherry jam.
2007.99.30 | Guava jam.
2007.99.35 | Peach jam.
2007.99.40 | Pineapple jam.
2007.99.45 | Jams, nesoi.
2007.99.48 | Apple, quince and pear pastes and purees, being cooked preparations.
2007.99.50 | Guava and mango pastes and purees, being cooked preparations.
2007.99.55 | Papaya pastes and purees, being cooked preparations.
2007.99.60 | Strawberry pastes and purees, being cooked preparations.
2007.99.65 | Fruit pastes and purees, nesoi, and nut pastes and purees, being cooked preparations.
2007.99.70 | Currant and berry fruit jellies.
2009.89.20 | Pear juice, concentrated or not concentrated.
2009.89.40 | Prune juice, concentrated or not concentrated.
2009.89.80 | Juice of any single vegetable, other than tomato, concentrated or not concentrated.
2201.90.00 | Waters (incl. ice, snow and steam), ot/than mineral waters or aerated waters, not cont. added sugar or other sweetening matter nor flavored.
2202.91.00 | Nonalcoholic beer.
2202.99.10 | Chocolate milk drink.
2202.99.36 | Juice of any single fruit or vegetable (except orange juice) fortified with vitamins or minerals, in nonconcentrated form.
2202.99.37 | Fruit or vegetable juices, fortified with vitamins or minerals, mixtures of juices in non-concentrated form.
2204.10.00 | Sparkling wine, made from grapes.
2204.21.20 | Effervescent grape wine, in containers holding 2 liters or less.
2204.21.30 | Tokay wine (not carbonated) not over 14% alcohol, in containers not over 2 liters.
2204.21.50 | Wine other than Tokay (not carbonated), not over 14% alcohol, in containers not over 2 liters.
2204.21.60 | “Marsala” wine, over 14% vol. alcohol, in containers holding 2 liters or less.
2204.21.80 | Grape wine, other than “Marsala“, not sparkling or effervescent, over 14% vol. alcohol, in containers holding 2 liters or less.
2204.22.20 | Wine of fresh grapes, other than sparkling wine, of an alcoholic strength by volume <=14% in containers holding over 2 liters but not over 4 liters.
2204.22.40 | Wine of fresh grapes, other than sparkling wine, of an alcoholic strength by volume >14% in containers holding over 2 liters but not over 4 liters.
2204.22.60 | Wine of fresh grapes, other than sparkling wine, of an alcoholic strength by volume <=14% in containers holding over 4 liters but not over 10 liters.
2204.22.80 | Wine of fresh grapes, other than sparkling wine, of an alcoholic strength by volume >14% in containers holding over 4 liters but not over 10 liters.
2204.29.61 | Wine of fresh grapes, other than sparkling wine, of an alcoholic strength by volume <=14% in containers holding >10 liters.
2204.29.81 | Wine of fresh grapes, other than sparkling wine, of an alcoholic strength by volume >14% in containers holding >10 liters.
2204.30.00 | Grape must, nesoi, in fermentation or with fermentation arrested otherwise than by addition of alcohol.
2208.20.20 | Grape brandy, excluding pisco and singani, in containers not over 4 liters, not over $2.38/liter.
2208.20.30 | Grape brandy, excluding pisco and singani, in containers not over 4 liters, valued over $2.38 to $3.43/liter.
2208.20.40 | Grape brandy, excluding pisco and singani, in containers not over 4 liters, valued over $3.43/liter.
2208.20.50 | Grape brandy, excluding pisco and singani, in containers over 4 liters, not over $2.38/liter.
2208.20.60 | Grape brandy, excluding pisco and singani, in containers over 4 liters, over $2.38/liter.
2208.70.00 | Liqueurs and cordials.
3301.12.00 | Essential oils of orange.
3301.13.00 | Essential oils of lemon.
3301.19.10 | Essential oils of grapefruit.
3301.19.51 | Essential oils of citrus fruit, other, nesoi.
3301.24.00 | Essential oils of peppermint (Mentha piperita).
3301.25.00 | Essential oils of mints, other than peppermint.
3301.29.10 | Essential oils of eucalyptus.
3301.29.20 | Essential oils of orris.
3301.29.51 | Essential oils other than those of citrus fruit, other, nesoi.
3301.30.00 | Resinoids.
3301.90.10 | Extracted oleoresins consisting essentially of nonvolatile components of the natural raw plant.
3301.90.50 | Concentrates of essential oils; terpenic by-product of the deterpenation of essential oils; aqueous distillates & solutions of essential oils.
4202.21.90 | Handbags, with or without shoulder strap or without handle, with outer surface of leather, composition or patent leather, nesoi, over $20 ea.
4417.00.80 | Wooden tools, tool bodies, tool handles, broom or brush bodies and handles nesoi; wooden boot or shoe lasts and trees.
4807.00.92 | Composite cloth-lined or reinforced paper, not surface-coated or impregnated, in rolls or sheets.
4809.90.40 | Simplex decalcomania paper in rolls over 36 cm wide or in rectangular sheets over 36 cm on side(s).
4810.14.19 | Paper and paperboard for graphic use nesoi, coated w/inorganic, n/o 150g/m2, n/o 10% fiber by mechanical/chemi- process, certain size sheets.
4901.10.00 | Printed books, brochures, leaflets and similar printed matter in single sheets, whether or not folded.
4908.10.00 | Transfers (decalcomanias), vitrifiable.
4911.91.20 | Lithographs on paper or paperboard, not over 0.51 mm in thickness, printed not over 20 years at time of importation.
4911.91.30 | Lithographs on paper or paperboard, over 0.51 mm in thickness, printed not over 20 years at time of importation.
4911.91.40 | Pictures, designs and photographs, excluding lithographs on paper or paperboard, printed not over 20 years at time of importation.
5205.31.00 | Multiple or cabled cotton yarn, 85% or more cotton by weight, of uncombed fibers, n/o 14 nm per single yarn, not put up for retail sale.
5206.32.00 | Multiple or cabled cotton yarn, <85% cotton by weight, of uncombed fibers, over 14 but n/o 43 nm/single yarn, not put up for retail sale.
5208.13.00 | Unbleached 3- or 4-thread twill fabrics of cotton, incl. cross twill, containing 85% or more of cotton by weight, weighing not over 200 g/m2.
5402.11.30 | Single high tenacity yarn of aramids, not put up for retail sale.
5402.11.60 | Multiple (folded) or cabled high tenacity yarn (except sewing thread) of aramids, not put up for retail sale.
5402.20.30 | Single high tenacity yarn of polyesters, not put up for retail sale.
5503.20.00 | Synthetic staple fibers, not carded, combed or otherwise processed for spinning, of polyesters.
5605.00.90 | Metalized textile yarn nesoi, of man-made monofilament or strip or the like, other than ungimped or w/twist of <5 turns per meter.
5609.00.10 | Articles of yarn, strip, twine, cordage, rope or cables nesoi, of cotton.
5609.00.20 | Articles of yarn, strip, twine, cordage, rope or cables nesoi, of vegetable fibers except cotton.
5609.00.30 | Articles of yarn, strip, twine, cordage, rope or cables nesoi, of man-made fibers.
5609.00.40 | Articles of yarn, strip or the like of man-made monofilaments, twine, cordage, rope or cables, nesoi.
5701.10.16 | Carpets & other textile floor coverings, hand-knotted or hand-inserted, w/ov 50% by weight of the pile of fine animal hair, nesoi.
5701.10.40 | Carpets and other textile floor coverings, of wool or fine animal hair, hand-hooked (tufts were inserted and knotted by hand or hand tool).
5701.10.90 | Carpets and other textile floor coverings, of wool or fine animal hair, not hand-hooked, not hand knotted during weaving.
5702.10.90 | “Kelem“, “Schumacks“, “Karamanie” and similar hand-woven rugs, other than certified hand-loomed and folklore products.
5702.41.20 | Carpets and other textile floor coverings of pile construction, woven, not tufted or flocked, made up, of wool or fine animal hair, nesoi.
5702.42.10 | Wilton, velvet and like floor coverings of pile construction, woven, not tufted or flocked, made up, of man-made textile materials.
5702.92.10 | Hand-loomed carpet & other textile floor coverings, not of pile construction, woven, made up, of man-made textile materials, nesoi.
5703.10.20 | Hand-hooked carpets and other textile floor coverings, tufted, whether or not made up, of wool or fine animal hair.
5805.00.30 | Hand-woven tapestries nesoi and needle-worked tapestries, of cotton.
5805.00.40 | Hand-woven tapestries nesoi and needle-worked tapestries, other than of cotton, wool or fine animal hair.
5806.10.24 | Narrow woven pile fastener fabric tapes (other than goods of heading 5807) of man-made fibers.
5907.00.05 | Laminated fabrics specified in note 9 to sect. XI of HTS, of m-m fiber, for theatrical, ballet, & operatic scenery & properties, incl sets.
5911.10.10 | Printers' rubberized blankets of textile fabrics.
6110.11.00 | Sweaters, pullovers, sweatshirts, waistcoats (vests) and similar articles, knitted or crocheted, of wool.
6110.12.10 | Sweaters, pullovers, sweatshirts, waistcoats (vests) and similar articles, knitted or crocheted, of Kashmir goats, wholly of cashmere.
6110.20.20 | Sweaters, pullovers and similar articles, knitted or crocheted, of cotton, nesoi.
6110.30.30 | Sweaters, pullovers and similar articles, knitted or crocheted, of manmade fibers, nesoi.
6112.20.20 | Ski-suits, knitted or crocheted, of textile materials other than man-made fibers.
6202.99.15 | Rec perf outwear, women's/girls' anoraks, wind-breakers & similar articles, not k/c, tex mats (not wool, cotton or mmf), cont <70% by wt of silk.
6202.99.80 | Women's/girls' anoraks, wind-breakers & similar articles, not k/c, of tex mats (not wool, cotton or mmf), cont <70% by wt of silk.
6203.11.60 | Men's or boys' suits of wool, not knitted or crocheted, nesoi, of wool yarn with average fiber diameter of 18.5 micron or less.
6203.11.90 | Men's or boys' suits of wool or fine animal hair, not knitted or crocheted, nesoi.
6203.19.30 | Men's or boys' suits, of artificial fibers, nesoi, not knitted or crocheted.
6203.19.90 | Men's or boys' suits, of textile mats (except wool, cotton or mmf), containing under 70% by weight of silk or silk waste, not knit or croch.
6208.21.00 | Women's or girls' nightdresses and pajamas, not knitted or crocheted, of cotton.
6211.12.40 | Women's or girls' swimwear, of textile materials (except mmf), containing 70% or more by weight of silk or silk waste, not knit or crocheted.
6211.12.80 | Women's or girls' swimwear, of textile materials (except mmf), containing under 70% by weight of silk or silk waste, not knit or crocheted.
6301.30.00 | Blankets (other than electric blankets) and traveling rugs, of cotton.
6301.90.00 | Blankets and traveling rugs, nesoi.
6302.21.50 | Bed linen, not knit or crocheted, printed, of cotton, cont any embroidery, lace, braid, edging, trimming, piping or applique work, n/napped.
6302.21.90 | Bed linen, not knit or croc, printed, of cotton, not cont any embroidery, lace, braid, edging, trimming, piping or applique work, not napped.
6802.10.00 | Tiles/cubes/similar arts. of natural stone, enclosable in a sq. w/a side less than 7 cm; artificially colored granules, chippings & powder.
6802.91.20 | Monumental or building stone & arts. thereof, of travertine, dressed or polished but not further worked, nesoi.
6802.91.25 | Monumental or building stone & arts. thereof, of travertine, further worked than dressed or polished, nesoi.
6802.93.00 | Monumental or building stone & arts. thereof, of granite, further worked than simply cut/sawn, nesoi.
6802.99.00 | Monumental or building stone & arts. thereof, nesoi, further worked than simply cut/sawn, nesoi.
6803.00.50 | Worked slate (other than roofing slate) and articles of slate or agglomerated slate.
6810.99.00 | Articles of cement (other than tiles, flagstones, bricks and similar arts.), of concrete or artificial stone, nesoi.
6907.21.30 | Glazed ceramic tiles having surface area <38.7cm2, surf area in sq w/side <7cm, of H2O absorp coeff by wt <=0.5%.
6912.00.35 | Ceramic (o/than porcelain or china) household table and kitchenware, in sets in which aggregate val. of arts./US note 6(b) n/o $38.
6912.00.39 | Ceramic (o/than porcelain or china) household table and kitchenware, in sets in which aggregate val. of arts./US note 6(b) o/$38.
6912.00.41 | Ceramic (o/than porcelain or china) hsehld steins w/pewter lids, decanters, punch bowls, spoons & rests, salt/pepper sets, etc.
6912.00.44 | Ceramic (o/than porcelain or china) household mugs and steins w/o attached pewter lids.
6912.00.45 | Ceramic (o/than porcelain or china) household tabl/kitch.ware,n/in specif. sets, cups o/$5.25/dz, saucers o/$3/dz, etc.
6912.00.46 | Ceramic (o/than porcelain or china) household serviette rings.
6912.00.48 | Ceramic (o/than porcelain or china) household tableware and kitchenware, nesoi.
6912.00.50 | Ceramic (o/than porcelain or china) household articles and toilet articles (o/than table and kitchenware), nesoi.
6913.90.30 | Earthenware ornamental articles, having a reddish-colored body and a lustrous glaze of differing colors.
6913.90.50 | Ceramic (o/than porcelain, china or earthenware) ornamental articles, nesoi.
7013.28.10 | Stemware, o/than of pressed and toughened glass, o/than lead crystal, valued n/over $0.30 each.
7013.41.10 | Glassware for table or kitchen purposes (o/than drinking glasses), of lead crystal, valued n/over $1 each.
7013.91.10 | Glassware for toilet/office/indoor decor. & similar purposes, of lead crystal, valued n/over $1 each.
7013.91.20 | Glassware for toilet/office/indoor decor. & similar purposes, of lead crystal, valued over $1 but n/over $3 each.
7016.90.10 | Paving blocks, slabs, bricks, squares, tiles & other arts. of pressed or molded glass, for building or construction purposes.
7017.10.60 | Laboratory, hygienic or pharmaceutical glassware, whether or not calibrated or graduated, of fused quartz or other fused silica, nesoi.
7019.19.05 | Fiberglass rubber reinforcing yarn, not color, of electrically nonconductive continuous filament 9 to 11 microns diam & impreg for adhesion to.
7019.19.15 | Glass fiber yarns, not colored, other than fiberglass rubber reinforcing yarn.
7019.19.28 | Glass fiber yarns, colored, other than fiberglass rubber reinforcing yarn.
7019.19.30 | Glass fiber chopped strands of a length more than 50 mm.
7110.21.00 | Palladium, unwrought or in powder form.
7114.11.60 | Articles of silver nesoi, for household, table or kitchen use, toilet and sanitary wares, including parts thereof.
7115.90.40 | Silver (including metal clad with silver) articles (o/than jewelry or silversmiths' wares), nesoi.
7115.90.60 | Articles of precious metal (o/than gold or silver), including metal clad with precious metal, nesoi.
7202.11.10 | Ferromanganese containing by weight more than 2 percent but not more than 4 percent of carbon.
7202.11.50 | Ferromanganese containing by weight more than 4 percent of carbon.
7202.30.00 | Ferrosilicon manganese.
7202.49.10 | Ferrochromium containing by weight more than 3 percent but not more than 4 percent of carbon.
7202.49.50 | Ferrochromium containing by weight 3 percent or less of carbon.
7202.93.80 | Ferroniobium, nesoi.
7311.00.00 | Iron/steel, containers for compressed or liquefied gas.
7315.19.00 | Iron or steel, parts of articulated link chain.
7317.00.10 | Iron or steel, thumb tacks.
7317.00.20 | Iron or steel, nails, tacks, corrugated nails, staples & similar arts., not threaded, suitable for use in powder-actuated hand tools.
7317.00.55 | Iron or steel, nails, tacks, corrugated nails, staples & similar arts., of one piece construction, made of round wire, nesoi.
7317.00.65 | Iron or steel, nails, tacks, corrugated nails, staples & similar arts., of one piece construction, not made of round wire, nesoi.
7317.00.75 | Iron or steel, nails, tacks, corrugated nails, staples & similar arts., of two or more pieces, nesoi.
7319.90.90 | Iron or steel, knitting needles, bodkins, crochet hooks, embroidery stilettos and similar articles for use in the hand.
7408.21.00 | Copper-zinc base alloys (brass), wire.
7408.29.10 | Copper alloys (o/than brass, cupro-nickel or nickel-silver), wire, coated or plated with metal.
7411.22.00 | Copper-nickel base alloys (cupro-nickel) or copper-nickel-zinc base alloys (nickel-silver), tubes and pipes.
7418.10.00 | Copper & copper alloy table, kitchen, household articles & parts; pot scourers, scouring & polishing pads, gloves, etc.
7506.20.05 | Nickel alloy, foil, w/thickness not over 0.15 mm.
7907.00.10 | Zinc, household, table or kitchen use articles; zinc toilet and sanitary wares; zinc parts of all the foregoing.
7907.00.20 | Zinc, tubes or pipes and fittings for tubes or pipes.
7907.00.60 | Zinc, articles (o/than for household, table or kitchen use), nesoi.
8112.92.40 | Niobium (columbium), unwrought; niobium powders.
8112.92.50 | Rhenium, unwrought; rhenium powders.
8112.99.20 | Vanadium, nesoi, and articles thereof.
8201.40.60 | Axes, bill hooks and similar hewing tools (o/than machetes), and base metal parts thereof.
8203.20.20 | Base metal tweezers.
8203.20.40 | Slip joint pliers.
8203.20.60 | Pliers (including cutting pliers but not slip joint pliers), pincers and similar tools.
8203.30.00 | Metal cutting shears and similar tools, and base metal parts thereof.
8203.40.60 | Pipe cutters, bolt cutters, perforating punches and similar tools, nesoi, and base metal parts thereof.
8205.40.00 | Screwdrivers and base metal parts thereof.
8211.10.00 | Sets of assorted knives w/cutting blades serrated or not (including pruning knives).
8211.91.25 | Table knives w/fixed blades, w/stain. steel handles cont. Ni or ov 10% by wt of Mn, nesoi.
8211.91.30 | Table knives w/fixed blades, w/stain. steel handles, nesoi, not ov 25.9 cm in overall length & val less than 25 cents each.
8211.91.40 | Table knives w/fixed blades, w/stain. steel handles, nesoi.
8211.91.80 | Table knives w/fixed blades, w/handles other than of silver-plate, stainless steel, rubber or plastics.
8211.92.40 | Knives w/fixed blades (o/than table or kitchen and butcher knives), with rubber or plastic handles.
8211.92.60 | Hunting knives w/fixed blades, with wood handles.
8211.92.90 | Knives w/fixed blades (o/than table knives, other knives w/rubb./plast. handles, or hunting knives w/wood handles).
8211.93.00 | Knives having other than fixed blades.
8211.94.50 | Base metal blades for knives having other than fixed blades.
8214.90.30 | Butchers' or kitchen cleavers with their handles, nesoi, and base metal parts thereof.
8214.90.60 | Butchers' or kitchen chopping or mincing knives (o/than cleavers w/their handles), and base metal parts thereof.
8214.90.90 | Articles of cutlery, nesoi, and base metal parts of cutlery, nesoi.
8306.30.00 | Base metal photograph, picture or similar frames; base metal mirrors; base metal parts thereof.
8429.52.10 | Self-propelled backhoes, shovels, clamshells and draglines with a 360 degree revolving superstructure.
8429.52.50 | Self-propelled machinery with a 360 degree revolving superstructure, other than backhoes, shovels, clamshells and draglines.
8467.19.10 | Tools for working in the hand, pneumatic, other than rotary type, suitable for metal working.
8467.19.50 | Tools for working in the hand, pneumatic, other than rotary type, other than suitable for metal working.
8467.29.00 | Electromechanical tools for working in the hand, other than drills or saws, with self-contained electric motor.
8468.80.10 | Machinery and apparatus, hand-directed or -controlled, used for soldering, brazing or welding, not gas-operated.
8468.90.10 | Parts of hand-directed or -controlled machinery, apparatus and appliances used for soldering, brazing, welding or tempering.
8505.11.00 | Permanent magnets and articles intended to become permanent magnets after magnetization, of metal.
8514.20.40 | Industrial or laboratory microwave ovens for making hot drinks or for cooking or heating food.
8539.10.00 | Sealed beam lamp units.
8711.40.30 | Motorcycles (incl. mopeds) and cycles, fitted w/recip. internal-combustion piston engine w/capacity o/500 cc but n/o 700 cc.
8714.10.00 | Pts. & access. for motorcycles (including mopeds).
8714.93.05 | Pts. & access. for bicycles & o/cycles, aluminum alloy hubs, w/hollow axle and lever-operated quick release mechanism.
8714.93.15 | Pts. & access. for bicycles & o/cycles, 3-speed hubs nesoi.
8714.93.35 | Pts. & access. for bicycles & o/cycles, non-variable speed hubs, nesoi.
8714.93.70 | Pts. & access. for bicycles & o/cycles, free-wheel sprocket-wheels.
9001.90.50 | Prisms, unmounted.
9001.90.80 | Half-tone screens designed for use in engraving or photographic processes, unmounted.
9002.11.40 | Projection lenses, mounted, and parts and accessories therefor, for cameras, projectors or photographic enlargers or reducers.
9002.11.60 | Mounted objective lenses for use in closed circuit television cameras, separately imported, w/or w/o attached elec. connectors or motors.
9002.11.90 | Objective lenses and parts & access. thereof, for cameras, projectors, or photographic enlargers or reducers, except projection, nesoi.
9002.90.85 | Mounted lenses, n/obj., for use in closed circuit television cameras, separately imported, w/or w/o attached elec. connectors or motors.
9005.10.00 | Binoculars.
9006.61.00 | Photographic discharge lamp (“electronic”) flashlight apparatus.
9013.10.10 | Telescopic sights for rifles not designed for use with infrared light.
9013.10.50 | Other telescopic sights for arms other than rifles; periscopes.
9015.30.80 | Levels, other than electrical.
9016.00.20 | Electrical balances of a sensitivity of 5 cg or better, with or without weights, and parts and accessories thereof.
9016.00.40 | Jewelers' balances (nonelectrical) of a sensitivity of 5 cg or better, with or without weights, and parts and accessories thereof.
9030.20.10 | Oscilloscopes and oscillographs, nesoi.
9105.29.10 | Wall clocks nesoi, not electrically operated, mvmt measuring n/o 50 mm, not designed or constr. to operate over 47 hrs without rewinding.
9105.29.30 | Wall clocks nesoi, not electrically operated, mvmt measuring n/o 50 mm, ov 1 jewel, constructed/designed to operate ov 47 hrs w/o rewinding.
9105.29.40 | Wall clocks nesoi, not electrically operated, movement measuring over 50 mm in width or diameter, valued not over $5 each.
9105.29.50 | Wall clocks nesoi, not electrically operated, movement measuring over 50 mm in width or diameter, valued over $5 each.
9106.10.00 | Time registers; time recorders.
9109.90.20 | Clock movements, complete and assembled, not electrically operated, measuring not over 50 mm in width or diameter.
9110.90.40 | Incomplete clock movements consisting of 2 or more pieces or parts fastened or joined together.
9603.30.40 | Artists' brushes, writing brushes and similar brushes for the application of cosmetics, valued o/5 cents but n/o 10 cents each.
9603.30.60 | Artists' brushes, writing brushes and similar brushes for the application of cosmetics, valued o/10 cents each.

[FR Doc. 2019-07267 Filed 4-11-19; 8:45 am]

BILLING CODE 3290-F9-P